DEPARTMENT OF HEALTH AND HUMAN SERVICES

National Institutes of Health

National Institute on Aging; Amended Notice of Meeting

Notice is hereby given of a change in the meeting of the Behavior and Social Science of Aging Review Committee, October 03, 2013, 04:30 p.m. to October 04, 2013, 02:00 p.m., Doubletree Hotel Bethesda, 8120 Wisconsin Avenue, Bethesda, MD 20814 which was published in the Federal Register on September 11, 2013, 78 FR 55752.

The meeting has been changed to December 10, 2013, 03:00 p.m. to 07:00 p.m. and December 11, 2013, 09:00 a.m. to 07:00 p.m. This meeting is now a teleconference. The meeting is closed to the public.

Dated: October 25, 2013.
David Clary,
Program Analyst, Office of Federal Advisory Committee Policy.

[FR Doc. 2013-25746 Filed 10-29-13; 8:45 am]

BILLING CODE 4140-01-P